DEPARTMENT OF COMMERCE

National Oceanic and Atmospheric Administration

50 CFR Part 600

[I.D. 102500A]

Magnuson-Stevens Act Provisions; General Provisions for Domestic Fisheries; Applications for Exempted Fishing Permits (EFPs)

AGENCY: National Marine Fisheries Service (NMFS), National Oceanic and Atmospheric Administration (NOAA), Commerce.

ACTION: Notification of a denial of a proposal for EFPs.

SUMMARY: NMFS announces that the Administrator, Northeast Region, NMFS (Regional Administrator), has denied the request to issue EFPs to conduct fishing operations otherwise restricted by the regulations governing the fisheries of the Northeastern United States due to enforcement difficulties. A delegation of the City of Gloucester, composed of representatives of the Commonwealth of Massachusetts, the Gloucester Mayor’s Office, local industry, the Gloucester Fisheries Commission, and the Massachusetts Fisheries Recovery Commission, requested the issuance of EFPs to conduct a 3-month pilot study beginning October 1, 2000. The EFPs would have allowed commercial vessels to enter Gloucester Harbor with overages of haddock to seek refuge from unsafe weather conditions related to wind and sea state.

FOR FURTHER INFORMATION CONTACT: Bonnie Van Pelt, Fishery Management Specialist, 978-281-9244.

SUPPLEMENTARY INFORMATION: On August 29, 2000, NMFS published notification of an application for an EFP to address safety issues associated with haddock trip limits (65 FR 52404). The EFP would have allowed commercial vessels to enter Gloucester Harbor with overages of haddock when unsafe conditions caused by wind or sea state prevent the vessels from remaining at sea. A more detailed description of the proposed EFP pilot program was contained in that notice and is not repeated here.

The Joint Enforcement Oversight and Advisory Panel (Enforcement Committee), consisting of members of the NMFS Office of Enforcement, the U.S. Coast Guard, and the Commonwealth of Massachusetts, met on September 21, 2000, to discuss the EFP pilot program application. The Enforcement Committee passed a motion that was carried forward to the New England Fishery Management Council (Council) that the pilot program not be approved in its current form due to the difficulty in adequately enforcing the EFP conditions. The Council agreed that the pilot program should not be pursued in its current form and advised NMFS not to approve the pilot program. Therefore, because of the enforcement concerns, and the recommendation of the Council, the Regional Administrator has denied the EFP application.

Additionally, because projections of the total allowable catch (TAC) target for haddock indicate that the haddock target TAC will not be harvested by the end of the current fishing year (April 30, 2001), the Regional Administrator has recently suspended the daily trip limits for haddock through February 28, 2001 (65 FR 63549, October 24, 2000), while maintaining the per trip maximum possession limit, as authorized under 50 CFR 648.86(a)(iii)(B). Eliminating the daily trip limit for haddock during the period when weather-related sea conditions have historically been the worst also eliminates the need for vessels fishing for haddock to wait out hazardous weather conditions at sea and relieves the need for the proposed EFP.

Dated: November 6, 2000.
Bruce C. Morehead,
Acting Director, Office of Sustainable Fisheries, National Marine Fisheries Service.

[FR Doc. 00-28954 Filed 11-09-00; 8:45 am]

BILLING CODE 3510-22-S